DEPARTMENT OF ENERGY

Federal Energy Regulatory Commission

[Docket No. IC17-14-000]

Commission Information Collection Activities (FERC-725U); Errata and Comment Request

AGENCY: Federal Energy Regulatory Commission, Department of Energy.

ACTION: Errata and comment request.

SUMMARY: In compliance with the requirements of the Paperwork Reduction Act (PRA) of 1995, the Federal Energy Regulatory Commission (Commission or FERC) is submitting the information collection FERC-725U (Mandatory Reliability Standards: Reliability Standard CIP-014) to the Office of Management and Budget (OMB) for review of the information collection requirements. Any interested person may file comments directly with OMB and should address a copy of those comments to the Commission as explained below. The Commission published notices in the Federal Register (82 FR 41618, 9/1/2017, and 82 FR 50645, 11/1/2017) requesting public comments. FERC received no comments on the FERC-725U for either notice and is making this notation in its submittal to OMB.

This 30-day errata and notice corrects the total annual burden estimates and explains changes in the calculation of the annual burden estimates. There are no changes to the information collection, filing, or recordkeeping requirements.

DATES: Comments on the collections of information are due by January 22, 2018.

ADDRESSES: Comments filed with OMB, identified by the OMB Control No. 1902-0274 (FERC-725U) should be sent via email to the Office of Information and Regulatory Affairs: oira_submission@omb.gov, Attention: Federal Energy Regulatory Commission Desk Officer. The Desk Officer may also be reached via telephone at 202-395-4718.

A copy of the comments should also be sent to the Federal Energy Regulatory Commission, identified by the Docket No. IC17-14-000, by one of the following methods:

• eFiling at Commission's website: http://www.ferc.gov/docs-filing/efiling.asp

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION:

Titles: Mandatory Reliability Standards: Reliability Standard CIP-014.

OMB Control Nos.: 1902-0274.

Type of Request: Three-year extension of the FERC-725U information collection requirements with no changes to the reporting or recordkeeping requirements.

Abstract: Two previous notices proposing the extension of FERC-725U were published in the Federal Register.¹ The total annual burden presented in those notices was incorrect and based on faulty approaches for calculating burden estimates. This 30-day errata/notice corrects the total annual burden estimates and explains changes in calculation of the annual burden estimates.

¹ 60-Day notice: 82 FR 41618, 9/1/2017; 30-day notice: 82 FR 50645, 11/1/2017.

The burden for the FERC-725U information collection is estimated based on the five year cycle of the requirements in the Reliability Standard. Over this five-year cycle, annual burden levels fluctuate greatly based on which reporting requirements are implicated each year.

FERC extensions usually request three years of extension/approval. However, using a three-year timespan to calculate the burden would cause the total annual burden to fluctuate in an unrepresentative way because of the mathematical mismatch between the Reliability Standard's five-year cycle and the three-year PRA cycle for OMB approval. Some extension requests would propose inordinately high or low burden solely dependent on the timing of the request, not on any actual changes to reporting requirements.

In order to provide the annual burden estimate in a more representative way, Commission staff is calculating the average annual burden using the five-year cycle of the Standard and using that average for Years 1-3 of this extension.

Types of Respondents: Intrastate natural gas and Hinshaw pipelines.

Estimate of Annual Burden: ² The Commission estimates the total Public Reporting Burden for the FERC-725U information collection as:

² Burden is defined as the total time, effort, or financial resources expended by persons to generate, maintain, retain, or disclose or provide information to or for a Federal agency. For further explanation of what is included in the information collection burden, reference 5 Code of Federal Regulations 1320.3.

FERC-725U: Mandatory Reliability Standards: Reliability Standard CIP-014 ³
Year and requirement for this PRA clearance cycle | Number and type of respondents | Number of responses per respondent | Total number of responses | Average burden hours and cost per response ⁴ | Total burden hours and total cost
| (1) | (2) | (1) * (2) = (3) | (4) | (3) * (4)
Year 1:
Record Retention | 334 TO and 2 TOP ⁵ | 1 | 336 | 2 hrs.; $76 | 672 hrs.; $25,536.
Year 2:
R1 | 334 TO | 1 | 334 | 20 hrs.; $1,280 | 6,680 hrs.; $427,520.
R2 | 334 TO | 1 | 334 | 34 hrs; $2,448 | 11,356 hrs.; $817,632.
R3 | 2 TOP | 1 | 2 | 1 hrs.; $129 | 2 hrs.; $258.
R4 | 30 TO and 2 TOP | 1 | 32 | 80 hrs.; $5,120 | 2,560 hrs.; $163,840.
R5 | 30 TO and 2 TOP | 1 | 32 | 320 hrs.; $20,480 | 10,240 hrs.; $655,360.
R6 | 30 TO and 2 TOP | 1 | 32 | 304 hrs.; $19,456 | 9,728 hrs.; $622,592.
Record Retention | 334 TO and 2 TOP | 1 | 336 | 2 hrs.; $76 | 672 hrs.; $25,536.
Year 3:
Record Retention | 334 TO and 2 TOP | 1 | 336 | 2 hrs.; $76 | 672 hrs.; $25,536.
Year 4:
R1 | 30 TO | 1 | 30 | 20 hrs.; $1,280 | 600 hrs.; $38,400.
R2 | 30 TO | 1 | 30 | 34 hrs.; $2,448 | 1,020 hrs.; $73,440.
R3 | 2 TOP | 1 | 2 | 1 hrs.; $129 | 2 hrs.; $258.
R4 | 30 TO and 2 TOP | 1 | 32 | 80 hrs.; $5,120 | 2,560 hrs.; $163,840.
R5 | 30 TO and 2 TOP | 1 | 32 | 80 hrs.; $5,120 | 2,560 hrs.; $163,840.
R6 | 30 TO and 2 TOP | 1 | 32 | 134 hrs.; $8,576 | 4,288 hrs.; $274,432.
Record Retention | 334 TO and 2 TOP | 1 | 336 | 2 hrs.; $76 | 672 hrs.; $25,536.
Year 5:
Record Retention | 334 TO and 2 TOP | 1 | 336 | 2 hrs.; $76 | 672 hrs.; $25,536.
Year 1 Total |  |  | 336 |  | 672 hrs.; $25,536.
Year 2 Total |  |  | 336 |  | 41,238 hrs.; $2,712,738.
Year 3 Total |  |  | 336 |  | 672 hrs.; $25,536.
Year 4 Total |  |  | 336 |  | 11,702 hrs.; $739,746.
Year 5 Total |  |  | 336 |  | 672 hrs.; $25,536.
Total (for Years 1-5) |  |  |  |  | 54,956 hrs.; $3,529,092.
Average Annual Burden and Cost (for Years 1-5) |  |  |  |  | 10,991 hrs.; $705,818.

A brief synopsis follows of the Reliability Standard's five-year cycle and its relation to Requirements R1-R6 and Record Retention Requirements. (The year stated is the year in this 3-year PRA cycle with the requirements imposed during that year.) ⁶

³ For each Reliability Standard, the Measure shows the acceptable evidence for the associated Reporting Requirement (R numbers), and the Compliance section details the related Recordkeeping Requirement.

⁴ The estimates for cost per response are derived using the following formula: Average Burden Hours per Response * $XX per Hour = Average Cost per Response.

The hourly cost figures are based on data for wages plus benefits from the Bureau of Labor Statistics (as of 11/9/2016) at https://www.bls.gov/oes/current/naics2_22.htm and http://www.bls.gov/news.release/ecec.nr0.htm. The figures are rounded for the purposes of calculations in this table and are:

• For electrical engineers (occupation code: 17-2071), $64.29/hr., rounded to $64/hr.

• for attorneys (occupation code: 23-0000), $129.12/hr., rounded to $129/hr.

• for administrative staff (occupation code: 43-0000), $37.75/hr., rounded to $38/hr.

The record retention cost is based on the administrative staff category; R3 is based on the attorney category; and Requirements R1, R4, R5 and R6 are based on the electrical engineer category.

R2 is a mix of the electrical engineer (30 hrs. at $64/hr.) and attorney (4 hrs. at $129/hr.) categories. The resulting average hourly figure is $71.65, rounded to $72/hr.

⁵ TO: transmission owner; TOP: transmission operator.

⁶ Although Year 4 includes R1-R6 and Record Retention similar to Year 2, the related burden is not in the same amount as in Year 2.

Also note that Years 4 and 5 are part of the 5-year Reliability Standard's cycle but beyond the current 3-year PRA approval cycle.

• Year 1: Record Retention only

• Year 2: R1, R2, R3, R4, R5, R6, and Record Retention

• Year 3: Record Retention only

• Year 4: R1, R2, R3, R4, R5, R6, and Record Retention

• Year 5: Record Retention only

For this 3-year PRA extension request, we will use the annual averages (over the 5-year cycle of the Reliability Standard, as shown in the table) for:

• Burden of 10,991 hours

• cost of $705,828

Comments: Comments are invited on: (1) Whether the collections of information are necessary for the proper performance of the functions of the Commission, including whether the information will have practical utility; (2) the accuracy of the agency's estimate of the burden and cost of the collections of information, including the validity of the methodology and assumptions used; (3) ways to enhance the quality, utility and clarity of the information collections; and (4) ways to minimize the burden of the collections of information on those who are to respond, including the use of automated collection techniques or other forms of information technology.

Dated: December 15, 2017.
Nathaniel J. Davis, Sr.,
Deputy Secretary.

[FR Doc. 2017-27496 Filed 12-20-17; 8:45 am]

BILLING CODE 6717-01-P